NUCLEAR REGULATORY COMMISSION

10 CFR Parts 30 and 70

[Docket No. NRC-2017-0031]

RIN 3150-AK52

Decommissioning Financial Assurance for Sealed and Unsealed Radioactive Materials

AGENCY: Nuclear Regulatory Commission.

ACTION: Regulatory basis; reopening of comment period and correction.

SUMMARY: The U.S. Nuclear Regulatory Commission (NRC) is correcting the notification published in the Federal Register on April 28, 2022, regarding a regulatory basis to support a rulemaking that would amend its regulations for decommissioning financial assurance for sealed and unsealed radioactive materials. This action is necessary to correct a publication issue with the regulatory basis. In the notification, the NRC solicited comments from the public, and the public comment period closed on June 27, 2022. The NRC has decided to reopen the public comment period to allow more time for members of the public to develop and submit their comments.

DATES: The correction takes effect on July 19, 2022. The comment period for the document published on April 28, 2022, (87 FR 25157) has been reopened. Comments should be filed no later than August 18, 2022. Comments received after this date will be considered, if it is practical to do so, but the NRC is able to ensure consideration only for comments received on or before this date.

ADDRESSES: You may submit comments by any of the following methods; however, the NRC encourages electronic comment submission through the Federal rulemaking website:

• Federal rulemaking website: Go to https://www.regulations.gov and search for Docket ID NRC-2017-0031. Address questions about NRC dockets to Dawn Forder; telephone: 301-415-3407; email: Dawn.Forder@nrc.gov. For technical questions contact the individual listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff. For additional direction on obtaining information and submitting comments, see “Obtaining Information and Submitting Comments” in the SUPPLEMENTARY INFORMATION section of this document.

FOR FURTHER INFORMATION CONTACT: Gregory Trussell, Office of Nuclear Material Safety and Safeguards, U.S. Nuclear Regulatory Commission, Washington, DC 20555-0001; telephone: 301-415-6244; email: Gregory.Trussell@nrc.gov.

SUPPLEMENTARY INFORMATION:

I. Obtaining and Submitting Comments

A. Obtaining Information

Please refer to Docket ID NRC-2017-0031 when contacting the NRC about the availability of information for this action. You may obtain publicly available information related to this action by any of the following methods:

• Federal Rulemaking Website: Go to https://www.regulations.gov and search for Docket ID NRC-2017-0031.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

The NRC encourages electronic comment submission through the Federal Rulemaking website (https://www.regulations.gov). Please include Docket ID NRC-2017-0031 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Correction

In the Federal Register on April 28, 2022, in Doc. 2022-09099, on page 25159, in the second column of the last entry in the table, correct “ML21235A480” to read “ML22188A206.” This will correct a publication error with the regulatory basis, restoring previously omitted pages 45-67 including Appendices A through C.

III. Discussion

On April 28, 2022, the NRC solicited comments on a regulatory basis to support a rulemaking that would amend its regulations for decommissioning financial assurance for sealed and unsealed radioactive materials. The purpose of the regulatory basis document is to serve as a precursor to a proposed rule and to describe the NRC's recommendation and considerations in amending appendix B, “Quantities of licensed material requiring labeling,” to part 30 of title 10 of the Code of Federal Regulations (10 CFR), “Rules of General Applicability to Domestic Licensing of Byproduct Material,” and 10 CFR 70.25, “Financial assurance and recordkeeping for decommissioning.” The proposed rule would address the petition for rulemaking (PRM)-30-66, “Request of the Organization of Agreement States for the NRC to Amend Appendix B, `Quantities of Licensed Material Requiring Labeling,'” submitted by the Organization of Agreement States (OAS) on April 14, 2017. The public comment period closed on June 27, 2022. The NRC has decided to reopen the public comment period on this document until August 18, 2022, to correct a publication error and allow more time for members of the public to submit their comments.

The NRC may post materials related to this document, including public comments, on the Federal rulemaking website at https://www.regulations.gov under Docket ID NRC-2017-0031. In addition, the Federal rulemaking website allows members of the public to receive alerts when changes or additions occur in a docket folder. To subscribe: (1) navigate to the docket folder (NRC-2017-0031); (2) click the “Subscribe” link; and (3) enter an email address and click on the “Subscribe” link.

Dated: July 13, 2022.
For the Nuclear Regulatory Commission.
Tara Inverso,
Acting Director, Division of Rulemaking, Environmental, and Financial Support, Office of Nuclear Material Safety and Safeguards.

[FR Doc. 2022-15320 Filed 7-18-22; 8:45 am]

BILLING CODE 7590-01-P